DEPARTMENT OF EDUCATION

Extension of Deadlines; Upward Bound Program (Regular Upward Bound (UB))

AGENCY: Office of Postsecondary Education, Department of Education.

ACTION: Notice extending deadline dates for the FY 2012 grant competition.

Catalog of Federal Domestic Assistance (CFDA) Number: 84.047A.

SUMMARY: The Secretary extends to February 1, 2012, and April 2, 2012, respectively, the Deadline for Transmittal of Applications and the Deadline for Intergovernmental Review dates that were published in the Applications for New Awards; Upward Bound Program (Regular Upward Bound (UB)) notice on December 19, 2011 (76 FR 78621).

DATES: Deadline for Transmittal of Applications: February 1, 2012.

Deadline for Intergovernmental Review: April 2, 2012.

FOR FURTHER INFORMATION CONTACT: Ken Waters, Upward Bound Program, U.S. Department of Education, 1990 K Street NW., room 7000, Washington, DC 20006-8510. Telephone: (202) 502-7586, or by email: ken.waters@ed.gov.

If you use a telecommunications device for the deaf (TDD), call the Federal Relay Service (FRS), toll free, at 1-(800) 877-8339.

SUPPLEMENTARY INFORMATION:

Background

On December 19, 2011, we published a notice in the Federal Register (76 FR 78621) inviting applications for new awards for fiscal year (FY) 2012 for the UB Program. We are extending the Deadline for Transmittal of Applications date published on pages 78621 and 78624 of the application notice to February 1, 2012. We are extending the Deadline for Intergovernmental Review date published on page 78621 of the application notice to April 2, 2012. These dates are extended due to the unavailability of Grants.gov for two days for scheduled system maintenance.

Program Authority: 20 U.S.C. 1070a-11 and 20 U.S.C. 1070a-13.

Accessible Format: Individuals with disabilities can obtain this document in an accessible format (e.g., braille, large print, audiotape, or compact disc) on request to the contact person listed under FOR FURTHER INFORMATION CONTACT.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF, you must have Adobe Acrobat Reader, which is available free at this site.

You may also access documents of the Department published in the Federal Register by using the article search feature at: www.federalregister.gov. Specifically, through the advanced search feature at this site, you can limit your search to documents published by the Department.

Dated: January 20, 2012.
Eduardo M. Ochoa,
Assistant Secretary for Postsecondary Education.

[FR Doc. 2012-1543 Filed 1-24-12; 8:45 am]

BILLING CODE 4000-01-P